DEPARTMENT OF ENERGY

Federal Energy Regulatory Commission

[Project No. 1962-000 California]

Pacific Gas and Electric Company; Notice of Availability of Final Environmental Assessment

May 30, 2001.

In accordance with the National Environmental Policy Act of 1969 and the Federal Energy Regulatory Commission's (Commission) regulations, 18 CFR part 380 (Order No. 486, 52 F.R. 47897), the Office of Energy Projects has reviewed the application for license for the Rock Creek-Cresta Hydroelectric Project, located on the North Fork Feather River in Butte and Plumas Counties, California, and has prepared a Final environmental Assessment (FEA) for the project. About 228 acres of the project occupy federal lands, managed by the U.S. Forest Service as part of the Plumas National Forest.

The FEA contains the staff's analysis of the potential environmental impacts of the project and concludes that licensing the project, with appropriate environmental protective measures, would not constitute a major federal action that would significantly affect the quality of the human environment.

Copies of the FEA are available for review at the Commission's Public Reference Room, located at 888 First Street, NE., Washington, DC 20426, or by calling (202) 208-1371. The FEA may be viewed on the web at http://www.ferc.fed.us/online/rims htm (call (202) 208-2222 for assistance).

For further information, contact Dianne Rodman at (202) 219-2830.

David P. Boergers,
Secretary.

[FR Doc. 01-14014 Filed 6-4-01; 8:45 am]

BILLING CODE 6717-01-M